ENVIRONMENTAL PROTECTION AGENCY

[EPA-HQ-OPP-2007-0944; FRL-8349-1]

Petition Requesting EPA to Issue a Notice of Intent to Cancel the Registrations of M-44 Sodium Cyanide Capsules and Sodium Fluoroacetate; Extension of Comment Period

AGENCY: Environmental Protection Agency (EPA).

ACTION: Notice; extension of comment period.

SUMMARY: EPA issued a notice in the Federal Register of November 16, 2007, concerning a petition that EPA received from Sinapu, Public Employees for Environmental Responsibility (PEER), Beyond Pesticides, Forest Guardians, Predator Defense, Western Wildlife Conservancy, Sierra Club, The Rewilding Institute, Animal Defense League of Arizona, and Animal Welfare Institute. The petition requested EPA to issue a notice of intent to cancel the registrations of M-44 sodium cyanide capsules and sodium fluoroacetate. The Agency is seeking further substantive comment on this petition, and will post a document with specific questions under docket identification (ID) number EPA-HQ-OPP-2007-0944. This Federal Register notice is extending the comment period from January 16, 2008, to March 5, 2008.

DATES: Comments identified by docket ID number EPA-HQ-OPP-2007-0944 must be received on or before March 5, 2008.

ADDRESSES: Follow the detailed instructions as provided under ADDRESSES in the Federal Register document of November 16, 2007.

FOR FURTHER INFORMATION CONTACT: Joy Schnackenbeck, Special Review and Reregistration Division (7508P), Office of Pesticide Programs, Environmental Protection Agency, 1200 Pennsylvania Ave., NW., Washington, DC 20460-0001; telephone number: (703) 308-8072; e-mail address: schnackenbeck.joy@epa.gov.

SUPPLEMENTARY INFORMATION:

I. General Information

A. Does this Action Apply to Me?

The Agency included in the notice a list of those who may be potentially affected by this action. If you have questions regarding the applicability of this action to a particular entity, consult the person listed under FOR FURTHER INFORMATION CONTACT.

B. What Should I Consider as I Prepare My Comments for EPA?

When preparing comments follow the procedures and suggestions given in Unit I.B. of the SUPPLEMENTARY INFORMATION of the November 16, 2007 Federal Register document.

C. How and to Whom Do I Submit Comments?

To submit comments, or access the public docket, please follow the detailed instructions as provided in Unit I.B. of the SUPPLEMENTARY INFORMATION of the November 16, 2007 Federal Register document. If you have questions, consult the person listed under FOR FURTHER INFORMATION CONTACT.

II. What Action is EPA Taking?

This document extends the public comment period established in the Federal Register of November 16, 2007 (72 FR 64623) (FRL-8156-3). In that document, EPA published a petition, which requested the Agency to cancel the use of M-44 sodium cyanide capsules and sodium fluoroacetate, and opened a 60-day public comment period. EPA is hereby extending the comment period, which was set to end on January 16, 2008, to March 5, 2008.

List of Subjects

Environmental protection, Pesticides, Predacides.

Dated: January 10, 2008.
Steven Bradbury,
Director, Special Review and Reregistration Division, Office of Pesticide Programs.

[FR Doc. E8-676 Filed 1-15-08; 8:45 am]

BILLING CODE 6560-50-S